DEPARTMENT OF JUSTICE

Antitrust Division

Notice Pursuant to the National Cooperative Research and Production Act of 1993—Southwest Research Institute: Guidelines for Measurement Error Caused by Buckled Orifice Plates

Notice is hereby given that, on September 26, 2006, pursuant to Section 6(a) of the National Cooperative Research and Production Act of 1993, 15 U.S.C. 4301 et seq. (“the Act”), Southwest Research Institute: Guidelines for Measurement Error Caused by Buckled Orifice Plates (“SwRI: Orifice Plates” has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: Atmos Energy, Dallas, TX; Centerpoint Energy Gas Transmission Company, Shreveport, LA; ConocoPhillips Company, Houston, TX; Enbridge Energy Partners, L.P., Houston, TX; Enterprise Products Operating L.P., Houston, TX: Kinder Morgan Inc., Houston, TX; National Fuel Gas Distribution Corporation, Williamsville, NY; Southern Star Central Gas Pipeline, Owensboro, KY; and Tennessee Gas Pipeline Company, Houston, TX.

The general area of SwRI: Orifice Plates' planned activity is to investigate the flow measurement error caused by orifice plates that have undergone permanent, plastic deformation. Guidelines will be developed for the measurement error produced by orifice plates as a function of orifice bore diameter and deflection angle. The program will include a literature survey, the development of an experimental test plan, and the acquisition and inspection of existing deformed orifice plates. The program will also include the testing of new orifice plates before and after mechanical deformation. Data obtained in this project and from the literature will be used to revise guidelines for estimating measurement error for buckled orifice plates.

Membership in this group research project remains open, and SwRI: Orifice Plates intends to file additional written notification disclosing all changes in membership or planned activities.

Patricia A. Brink,
Deputy Director of Operations, Antitrust Division.

[FR Doc. 06-8913 Filed 10-26-06; 8:45 am]

BILLING CODE 4410-11-M